DEPARTMENT OF TRANSPORTATION

Federal Motor Carrier Safety Administration

[Docket No. FMCSA-2016-0033]

Qualification of Drivers; Exemption Applications; Vision

AGENCY: Federal Motor Carrier Safety Administration (FMCSA), DOT.

ACTION: Notice of applications for exemptions; request for comments.

SUMMARY: FMCSA announces receipt of applications from 18 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before September 28, 2016. All comments will be investigated by FMCSA. The exemptions will be issued the day after the comment period closes.

ADDRESSES: You may submit comments bearing the Federal Docket Management System (FDMS) Docket No. FMCSA-2016-0033 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 18 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Gregory M. Anderson

Mr. Anderson, 50, has had amblyopia in his right eye since childhood. The visual acuity in his right eye is 20/400, and in his left eye, 20/20. Following an examination in 2016, his ophthalmologist stated, “Visual field and color testing are normal. Mr. Anderson is okay to drive a commercial vehicle.” Mr. Anderson reported that he has driven straight trucks for 12 years, accumulating 156,000 miles. He holds an operator's license from New York. His driving record for the last 3 years shows 1 crash in a CMV, for which he was not cited, and no convictions for moving violations in a CMV.

Richard D. Auger

Mr. Auger, 53, has had a prosthetic right eye since 1989. The visual acuity in his right eye is no light perception, and in his left eye, 20/20. Following an examination in 2016, his optometrist stated, “Based on my medical opinion, patient has sufficient vision in his left eye to perform the driving tasks required to operate a commercial vehicle.” Mr. Auger reported that he has driven straight trucks for 33 years, accumulating 49,500 miles, and tractor-trailer combinations for 20 years, accumulating 10,000 miles. He holds a Class AM1 CDL from California. His driving record for the last 3 years shows no crashes and no convictions for moving violations in a CMV.

Theodore N. Belcher

Mr. Belcher, 33, has had a cataract in his right eye due to a traumatic incident in childhood. The visual acuity in his right eye is 20/400, and in his left eye, 20/20. Following an examination in 2015, his optometrist stated, “Certifies that in my medical opinion, patient has sufficient vision to perform the driving tasks required to operate a commercial vehicle: YES he has that opinion from me.” Mr. Belcher reported that he has driven straight trucks for 3 years, accumulating 46,800 miles, and tractor-trailer combinations for 2 years, accumulating 72,000 miles. He holds a Class A CDL from Virginia. His driving record for the last 3 years shows 1 crash in a CMV, for which he was cited, and no convictions for moving violations in a CMV.

Darrin E. Bogert

Mr. Bogert, 50, has had amblyopia in his right eye since birth. The visual acuity in his right eye is 20/80, and in his left eye, 20/20. Following an examination in 2016, his ophthalmologist stated, “His vision and driving attitude & [sic] history bears out the [sic] he can safely operate a commercial vehicle.” Mr. Bogert reported that he has driven straight trucks for 13 years, accumulating 26,000 miles, and tractor-trailer combinations for 13 years, accumulating 650,000 miles. He holds a Class AM CDL from New York. His driving record for the last 3 years shows no crashes and no convictions for moving violations in a CMV.

Michael S. Buck

Mr. Buck, 42, has had amblyopia in his right eye since birth. The visual acuity in his right eye is 20/70, and in his left eye, 20/20. Following an examination in 2015, his optometrist stated, “In my professional opinion, Mr. Michael Buck has sufficient vision to perform the driving tasks required to operate the commercial vehicle.” Mr. Buck reported that he has driven straight trucks for 10 years, accumulating 50,000 miles. He holds an operator's license from Indiana. His driving record for the last 3 years shows no crashes and no convictions for moving violations in a CMV.

Jose D. Chavez

Mr. Chavez, 45, has complete loss of vision in his right eye due to a traumatic incident in childhood. The visual acuity in his right eye is no light perception, and in his left eye, 20/20. Following an examination in 2015, his ophthalmologist stated, “In summary, Mr. Chavez demonstrates a visual acuity of 20/20 in his left eye and full visual field in his left eye, as well as full color testing for his left eye. After speaking with the Federal vision exemption program today, Mr. Chavez fulfills their criteria for being able to safely operate a commercial vehicle.” Mr. Chavez reported that he has driven straight trucks for 15 years, accumulating 375,000 miles. He holds an operator's license from Maryland. His driving record for the last 3 years shows no crashes and no convictions for moving violations in a CMV.

Philip J. Clements

Mr. Clements, 65, has had amblyopia in his right eye since childhood. The visual acuity in his right eye is 20/125, and in his left eye, 20/20. Following an examination in 2016, his optometrist stated, “Philip J Clements [sic] was seen in our office on 3/25/16 for his yearly DOT eye exam . . . He has the ability and vision in both eyes to perform tasks needed for driving.” Mr. Clements reported that he has driven straight trucks for 5 years, accumulating 125,000 miles, tractor-trailer combinations for 10 years, accumulating 750,000 miles. He holds a Class ABCD CDL from Wisconsin. His driving record for the last 3 years shows 1 crash; for which he was cited for operating in excess of height limit, and no convictions for moving violations in a CMV.

Alfonso P. Echevarria

Mr. Echevarria, 38, has had amblyopia in his left eye since childhood. The visual acuity in his right eye is 20/20, and in his left eye, 20/200. Following an examination in 2016, his ophthalmologist stated, “Given the patient's best corrected visual acuity and visual field testing results, this patient meets criteria for sufficient vision to perform the driving task required to operate a commercial vehicle.” Mr. Echevarria reported that he has driven straight trucks for 7 years, accumulating 14,000 miles. He holds an operator's license from Georgia. His driving record for the last 3 years shows no crashes and no convictions for moving violations in a CMV.

Samuel R. Graziano

Mr. Graziano, 54, has had amblyopia in his right eye since childhood. The visual acuity in his right eye is 20/100, and in his left eye, 20/20. Following an examination in 2016, his optometrist stated, “In my professional opinion Mr. Graziano has stable visual acuity, peripheral vision and sufficient vision to perform the driving tasks for a commercial vehicle.” Mr. Graziano reported that he has driven tractor-trailer combinations for 25 years, accumulating 1 million miles. He holds a Class A CDL from Pennsylvania. His driving record for the last 3 years shows no crashes and no convictions for moving violations in a CMV.

Zagar E. Melvin

Mr. Melvin, 47, has a retinal detachment in his right eye due to a traumatic incident in 2007. The visual acuity in his right eye is no light perception, and in his left eye, 20/20. Following an examination in 2016, his ophthalmologist stated, “If this is the case, then in my opinion, Mr. Melvin has sufficient vision to operate a commercial vehicle.” Mr. Melvin reported that he has driven straight trucks for 1 year, accumulating 25,000 miles, and tractor-trailer combinations for 3 years, accumulating 300,000 miles. He holds a Class A CDL from Georgia. His driving record for the last 3 years shows no crashes and no convictions for moving violations in a CMV.

George R. Morehouse

Mr. Morehouse, 70, has had amblyopia in his left eye since birth. The visual acuity in his right eye is 20/20, and in his left eye, 20/200. Following an examination in 2015, his optometrist stated, “I believe he can see well enough to safely operate a commercial motor vehicle.” Mr. Morehouse reported that he has driven straight trucks for 35 years, accumulating 175,000 miles, and tractor-trailer combinations for 35 years, accumulating 175,000 miles. He holds a Class A CDL from Minnesota. His driving record for the last 3 years shows no crashes and no convictions for moving violations in a CMV.

Robert H. Nelson, III

Mr. Nelson, 67, has had amblyopia in his right eye since birth. The visual acuity in his right eye is 20/200, and in his left eye, 20/20. Following an examination in 2016, his optometrist stated, “In my medical opinion, Mr. Nelson has sufficient vision to perform the driving tasks required to operate a commercial motor vehicle.” Mr. Nelson reported that he has driven straight trucks for 40 years, accumulating 1.4 million miles. He holds an operator's license from Virginia. His driving record for the last 3 years shows no crashes and no convictions for moving violations in a CMV.

Salvador Sanchez

Mr. Sanchez, 39, has complete loss of vision in his right eye due to a traumatic incident in childhood. The visual acuity in his right eye is no light perception, and in his left eye, 20/20. Following an examination in 2016, his ophthalmologist stated, “After thorough examination, I conclude that Mr. Sanchez [sic] visual deficiency in the right eye is stable and he has sufficient vision in the left eye to operate a commercial vehicle.” Mr. Sanchez reported that he has driven straight trucks for 11 years, accumulating 137,500 miles. He holds an operator's license from California. His driving record for the last 3 years shows no crashes and no convictions for moving violations in a CMV.

Randal J. Shabloski

Mr. Shabloski, 41, has had amblyopia in his right eye since childhood. The visual acuity in his right eye is 20/80, and in his left eye, 20/20. Following an examination in 2016, his optometrist stated, “His uncorrected visual acuity had improved to 20/80 OD and continues to be 20/20 OS. Due to this improvement in his uncorrected visual acuity of his right eye I would recommend that you consider a re-evaluation for the possibility of Mr. Shabloski to obtain his CDL.” Mr. Shabloski reported that he has driven straight trucks for 20 years, accumulating 116,000 miles and tractor-trailer combinations for 20 years, accumulating 54,000 miles. He holds a Class A CDL from Pennsylvania. His driving record for the last 3 years shows no crashes and no convictions for moving violations in a CMV.

Curtis L. Shannon

Mr. Shannon, 44, has had congenital coloboma in his left eye since birth. The visual acuity in his right eye is 20/30, and in his left eye, 20/400. Following an examination in 2016, his optometrist stated, “It is my medical opinion that Mr. Curtis meets/exceeds all necessary vision test for CDL [sic].” Mr. Shannon reported that he has driven straight trucks for 4 years, accumulating 40,000 miles, and tractor-trailer combinations for 4 years, accumulating 90,000 miles. He holds an operator's license from Minnesota. His driving record for the last 3 years shows no crashes and no convictions for moving violations in a CMV.

Ricardo N. Vargas

Mr. Vargas, 62, has a macular scar in his left eye since 2000. The visual acuity in his right eye is 20/20, and in his left eye, 20/80. Following an examination in 2016, his optometrist stated, “In my opinion Ricardo has sufficient vision to perform driving tasks required for commercial vehicle [sic].” Mr. Vargas reported that he has driven tractor-trailer combinations for 17 years, accumulating 680,000 miles. He holds a Class A CDL from California. His driving record for the last 3 years shows no crashes and no convictions for moving violations in a CMV.

Johnny Watson

Mr. Watson, 59, has a prosthetic left eye due to a traumatic incident in childhood. The visual acuity in his right eye is 20/20, and in his left eye, no light perception. Following an examination in 2015, his ophthalmologist stated, “The patient has excellent visual acuity in his right eye with a full visual field of 120 in the horizontal. I think that he has adequate vision to perform any tasks assigned to him. The question was posed as to whether or not he could perform the driving tasks required to operate a commercial vehicle. Although I feel that this is the case, I cannot comment with a certainty as I have never personally witnessed the patient operation [sic] a commercial vehicle.” Mr. Watson reported that he has driven straight trucks for 25 years, accumulating 300,000 miles, and tractor-trailer combinations for 15 years, accumulating 120,000 miles. He holds a Class BM CDL from Georgia. His driving record for the last 3 years shows no crashes and no convictions for moving violations in a CMV.

Harold F. White, Jr.

Mr. White, 53, has had amblyopia in his left eye since childhood. The visual acuity in his right eye is 20/20, and in his left eye, 20/50. Following an examination in 2016, his optometrist stated, “It is my opinion that he has sufficient vision to perform the driving tasks required to operate a commercial vehicle.” Mr. White reported that he has driven straight trucks for 4 years, accumulating 35,000 miles. He holds an operator's license from South Carolina. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0033 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0033 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Larry W. Minor,
Associate Administrator for Policy.

[FR Doc. 2016-20494 Filed 8-26-16; 8:45 am]

BILLING CODE 4910-EX-P